NATIONAL AERONAUTICS AND SPACE ADMINISTRATION

[Notice 11-073]

NASA Advisory Council; Science Committee; Earth Science Subcommittee; Meeting

AGENCY: National Aeronautics and Space Administration.

ACTION: Notice of meeting.

SUMMARY: In accordance with the Federal Advisory Committee Act, Public Law 92-463, as amended, the National Aeronautics and Space Administration (NASA) announces a meeting of the Earth Science Subcommittee of the NASA Advisory Council (NAC). This Subcommittee reports to the Science Committee of the NAC. The Meeting will be held for the purpose of soliciting from the scientific community and other persons scientific and technical information relevant to program planning.

DATES: Wednesday, August 31, 1 p.m. to 3 p.m. E.D.T.

ADDRESSES: This meeting will take place telephonically. Any interested person may call the USA toll free conference call number 888-603-9610, pass code ESS, to participate in this meeting by telephone.

FOR FURTHER INFORMATION CONTACT: Ms. Marian Norris, Science Mission Directorate, NASA Headquarters, Washington, DC 20546, (202) 358-4452, fax (202) 358-4118, or mnorris@nasa.gov.

SUPPLEMENTARY INFORMATION: The meeting will be open to the public up to the capacity of the room. The agenda for the meeting includes the following topics:

—Government Performance and Results Act Review

It is imperative that the meeting be held on these dates to accommodate the scheduling priorities of the key participants.

August 5, 2011.
Susan M. Burch,
Acting Director, Advisory Committee Management Division, National Aeronautics and Space Administration.

[FR Doc. 2011-20275 Filed 8-9-11; 8:45 am]

BILLING CODE 7510-13-P